DEPARTMENT OF TRANSPORTATION

National Highway Traffic Safety Administration

49 CFR Parts 531, 533, 535, and 537

[NHTSA-2025-0491]

RIN 2127-AM76

Public Hearing for Corporate Average Fuel Economy Standards: The Safer Affordable Fuel-Efficient (SAFE) Vehicle Rule III for Model Years 2022 to 2031 Passenger Cars and Light Trucks

AGENCY: National Highway Traffic Safety Administration (NHTSA), Department of Transportation (DOT).

ACTION: Notification of public hearing.

SUMMARY: The National Highway Traffic Safety Administration (NHTSA) is announcing a virtual public hearing to be held January 7, 2026 on its proposal for the “The Safer Affordable Fuel-Efficient (SAFE) Vehicle Rule III for Model Years 2022 to 2031 Passenger Cars and Light Trucks,” which was signed on December 2, 2025. This hearing also allows the public to provide oral comments regarding the Draft Supplemental Environmental Impact Statement (Draft SEIS) that accompanies the proposal. An additional virtual session will be held on January 8, 2026, if necessary, to accommodate the number of people that sign up to speak.

DATES: NHTSA will hold a virtual public hearing on January 7, 2026. An additional session will be held on January 8, 2026, if necessary, to accommodate the number of people that sign up to testify. Please refer to the SUPPLEMENTARY INFORMATION section for additional information on the public hearing.

ADDRESSES: The virtual public hearing will be held on January 7, 2026. An additional session will be held on January 8, 2026, if necessary, to accommodate the number of speakers that sign up to testify. Each day the hearing will convene at 9:00 a.m. Eastern Time and will conclude when the last pre-registered speaker has testified but no later than 6:00 p.m. Eastern Time. All hearing attendees, including those who do not intend to provide oral testimony, should register by December 31, 2025. The link to register will be available at http://www.nhtsa.gov/cafe. Additional information regarding the hearing appears below under SUPPLEMENTARY INFORMATION.

FOR FURTHER INFORMATION CONTACT: For questions regarding how to register to attend the hearing, please contact NHTSA's Office of Communications at NHTSA.Communication@dot.gov. For any other questions about this notice, please contact Joseph Bayer, Corporate Average Fuel Economy (CAFE) Program Division Chief, Office of Rulemaking, NHTSA, at CAFE_mbox@dot.gov.

SUPPLEMENTARY INFORMATION: NHTSA, on behalf of the Department of Transportation, is proposing to amend CAFE standards for light-duty vehicles for model years (MYs) 2022-2026 and MYs 2027-2031. Consistent with the requirements of the CAFE program, the fuel economy standards proposed in this rule are founded on light-duty vehicles powered by gasoline and diesel fuels, a category that these rules treat as including non-plug-in hybrid vehicles. In formulating the proposed standards, NHTSA has not considered the imputed fuel-economy performance of battery-powered electric vehicles or the electric operation of vehicles that use plug-in hybrid electric powertrains and has not considered compliance credits nor adjustments to the statutorily required two-cycle fuel economy test procedures to account for air conditioning and off-cycle technologies, since such consideration is prohibited by statute. NHTSA is proposing to set fuel economy standards that increase from the newly proposed MY 2022 standards at 0.5 percent per year through MY 2026 followed by 0.25 percent per year through MY 2031, with MY 2027 stringency as a bridge between the two sets of standards. The reduced stringency in later years, coupled with a reevaluation of the coefficients that define the fuel economy standards functions, are intended to enable the industry to adapt to proposals to remove credit trading and to classify passenger and non-passenger automobiles appropriately, based on their attributes and capabilities, starting in MY 2028. NHTSA projects that the amended standards would correspond to industry fleetwide average all light-duty vehicles of roughly 34.5 miles per gallon (mpg) in MY 2031. The proposal was signed on December 2, 2025, and was published in the Federal Register on December 5, 2025 (90 FR 56438). A notice of availability for the accompanying Draft SEIS was published in the Federal Register on December 5, 2025 (90 FR 56144). The Draft SEIS is available on NHTSA's CAFE website, https://www.nhtsa.gov/cafe, and is also available in Docket ID No. NHTSA-2025-0490.

Participation in Virtual Public Hearing

NHTSA will begin pre-registering speakers for the hearing upon publication of this document in the Federal Register. To register to speak at the virtual hearing, please follow the instructions below. The last day to register to speak at the hearing will be December 31, 2025.

• To watch the hearing (without providing oral comments): Click the link at https://www.nhtsa.gov/cafe and register. Indicate NO on the registration page that you do not wish to provide testimony. Within 24 hours of registering, you will be emailed your link to join.

• To provide oral comment at the hearing: Click the link at https://www.nhtsa.gov/cafe and register by December 31, 2025. Indicate YES on the registration page that you would like to provide comments. Within 1 hour of registering, you will be emailed your link to join. Additionally, you will receive an email with your approximate date and time to testify as well as additional information about how to turn on your audio and camera to comment. We recommend you join via a computer, but if you are unable to do so, an option to join via phone will also be provided in that email.

If you do not receive your confirmation email(s), or have further questions about this hearing, please email NHTSA.Communication@dot.gov. NHTSA is committed to providing equal access to this event for all participants. Closed captioning will be available. People with disabilities who need additional accommodations should send a request to NHTSA.Communication@dot.gov no later than December 31, 2025.

Each commenter will have 3 minutes to provide oral testimony. NHTSA may ask clarifying questions during the oral presentations but will not otherwise respond to the presentations at that time. NHTSA recommends submitting the text of your oral comments as written comments to the rulemaking docket or to the Draft SEIS docket, as appropriate. Written statements and supporting information submitted during the comment period will be considered with the same weight as oral comments and supporting information presented at the public hearing. If identical comments are submitted by the same commenter more than once to the docket, NHTSA does not consider those comments to carry more weight than if they had been submitted only once. If the oral testimony is specifically intended to reference the Draft SEIS, please mention that in your opening remarks.

Please note that any updates made to any aspects of the hearing logistics, including any change to the date of the hearing or a potential additional session on January 8, 2026, will be posted online at the CAFE website at https://www.nhtsa.gov/cafe. While NHTSA expects the hearing to go forward as set forth above, please monitor our website or contact the person listed in the FOR FURTHER INFORMATION CONTACT section to determine if there are any updates. NHTSA does not intend to publish a document in the Federal Register announcing updates. Finally, NHTSA will post a video recording of the hearing at https://www.nhtsa.gov/cafe and will make a transcript of the hearing available in the rule making docket as soon as practicable.

How can I get copies of the proposed action, the Draft SEIS, and other related information?

NHTSA has established a docket for the proposal under Docket ID No. NHTSA-2025-0491 and a separate docket for the Draft SEIS at Docket ID No. NHTSA-2025-0490. Relevant documents and information can also be accessed at NHTSA's CAFE website at https://www.nhtsa.gov/cafe. Please refer to the notice of proposed rulemaking for detailed information on accessing information related to the proposal and the Draft SEIS.

Issued on December 10, 2025, in Washington, DC, under authority delegated in 49 CFR 1.95.
Jonathan Morrison,
Administrator.

[FR Doc. 2025-22674 Filed 12-11-25; 8:45 am]

BILLING CODE 4910-59-P